DEPARTMENT OF ENERGY

Federal Energy Regulatory Commission

[Docket Nos. CP02-430-001 and CP02-430-002]

Saltville Gas Storage Company, L.L.C.; Notice of Technical Conference

June 4, 2003.

Take notice that a technical conference will be held on June 17, 2003, at 1 p.m., in a room to be determined, at the offices of the Federal Energy Regulatory Commission, 888 First Street, NE., Washington, DC 20426.

This conference is being held in accordance with the Commission's May 16, 2003 Order Directing Compliance Filing, Convening Technical Conference and Deferring Action on Requests for Rehearing,¹ in which the Commission directed staff to convene a technical conference to address issues relating to Saltville Gas Storage Company's (Saltville) assertion of Hinshaw status.

¹ Saltville Gas Storage Company, 103 FERC ¶ 61,187 (2003).

Attendance at the conference is limited to Commission staff and existing parties as of the issuance of the Commission's May 16 order.

There will be no transcript of the conference, and there will be no telephone link communications. For more information about the conference, please contact Marcia Lurensky at (202) 502-8504 or jack.kendall@ferc.gov.

Magalie R. Salas,
Secretary.

[FR Doc. 03-14608 Filed 6-10-03; 8:45 am]

BILLING CODE 6717-01-P